DEPARTMENT OF TRANSPORTATION

Federal Aviation Administration

14 CFR Part 71

[Docket No. FAA-2004-19851; Airspace Docket No. 04-AAL-13]

RIN 2120-AA66

Modification and Revocation of Federal Airways; AK

AGENCY: Federal Aviation Administration (FAA), DOT.

ACTION: Final rule.

SUMMARY: This action revokes Jet Route 711 (J-711), modifies Jet Routes 133 and 889R (J-133 and J-889R), and modifies two colored Federal airways (B-25 and A-1) in Alaska. The FAA is taking this action to remove all airways and routes off the Hinchinbrook, AK, Nondirectional Radio Beacon (NDB) in preparation for the NDB's eventual decommissioning from the National Airspace System (NAS).

EFFECTIVE DATE: 0901 UTC, July 7, 2005.

FOR FURTHER INFORMATION CONTACT: Ken McElroy, Airspace and Rules, Office of System Operations and Safety, Federal Aviation Administration, 800 Independence Avenue, SW., Washington, DC 20591; telephone: (202) 267-8783.

SUPPLEMENTARY INFORMATION:

History

On January 21, 2005, the FAA published in the Federal Register a notice of proposed rulemaking (NPRM) to modify J-133, J-889, B-25, and A-1; and revoke J-711 in Alaska (70 FR 3156). The FAA Alaskan Region determined that continued operation of the Hinchinbrook, AK, NDB was in jeopardy at its current location, and that action was required to reconfigure the airways using the Orca Bay, AK, NDB. Interested parties were invited to participate in this rulemaking effort by submitting written comments on the proposal. No comments were received. With the exception of editorial changes, this amendment is the same as that proposed in the notice.

The Rule

The FAA is amending Title 14 Code of Federal Regulations (14 CFR) part 71 (part 71) to revoke J-711, and to modify J-133, J-889R, B-25, and A-1 in Alaska. The FAA is taking this action to remove all airways and routes off the Hinchinbrook, AK, NDB in preparation for the commissioning of the Orca Bay NDB on May 1, 2005.

Colored Federal airways and jet routes are published in paragraphs 6009(c) and paragraph 2004, respectively, of FAA Order 7400.9M dated August 30, 2004, and effective September 16, 2004, which is incorporated by reference in 14 CFR 71.1. The colored Federal airway and Alaskan VOR Federal airways listed in this document would be published subsequently in the order.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9M, Airspace Designations and Reporting Points, dated August 30, 2004, and effective September 16, 2004, is amended as follows:

Paragraph 2004 Jet Routes.

* * * * *

J-711 [Revoked]

* * * * *

J-133 [Revised]

From Sitka, AK, NDB via INT Sitka, AK NDB 308° and Orca Bay, AK, NDB 114°; Johnstone Point, AK; Anchorage, AK; to Galena, AK.

* * * * *

J-889R Anchorage, AK, to Yakutat, AK [Revised]

NOWEL; 60°28′59″ N., long. 148°38′08″ W., Anchorage, AK.

ARISE; 60°00′00″ N., long. 146°09′13″ W., Middleton Island, AK.

KONKS; 59°33′02″ N., long. 144°00′07″ W., Middleton Island, AK.

LAIRE; 58°48′15″ N., long. 140°31′43″ W., Yakutat, AK.

* * * * *

Paragraph 6009(c) Amber Federal Airways.

* * * * *

A-1 [Revised]

From Sandspit, BC, Canada, NDB 96 miles 12 AGL, 102 miles 35 MSL, 57 miles 12 AGL, via Sitka, AK, NDB; 31 miles 12 AGL, 50 miles 47 MSL, 88 miles 20 MSL, 40 miles 12 AGL, Ocean Cape, AK, NDB; INT Ocean Cape NDB 283° and Orca Bay, AK, NDB 106° bearings; Orca Bay NDB; INT Orca Bay 285° and Campbell Lake, AK, NDB 123° bearings; Campbell Lake NDB; Takotna River, AK, NDB; 24 miles 12 AGL, 53 miles 55 MSL; 51 miles 40 MSL, 25 miles 12 AGL, North River, AK, NDB; 17 miles 12 AGL, 89 miles 25 MSL, 17 miles 12 AGL, to Fort Davis, AK, NDB. Excluding that airspace within Canada.

* * * * *

Paragraph 6009(d) Blue Federal Airways.

* * * * *

B-25 [Revised]

From Orca Bay, AK, NDB, via Glenallen, AK, NDB; Delta Junction, AK, NDB.

* * * * *

Issued in Washington, DC, on April 29, 2005.
Edith V. Parish,
Acting Manager, Airspace and Rules.

[FR Doc. 05-9039 Filed 5-5-05; 8:45 am]

BILLING CODE 4910-13-P